DEPARTMENT OF THE INTERIOR

Bureau of Ocean Energy Management

[Docket No. BOEM-2012-0088]

Commercial Leasing for Wind Power on the Outer Continental Shelf Offshore North Carolina—Call for Information and Nominations (Call)

AGENCY: Bureau of Ocean Energy Management (BOEM), Interior.

ACTION: Call for Information and Nominations for Commercial Leasing for Wind Power on the Outer Continental Shelf, Offshore North Carolina.

SUMMARY: BOEM invites the submission of nominations for commercial wind leases that would allow a lessee to propose the construction of a wind energy project on the Outer Continental Shelf (OCS) offshore North Carolina, and to develop the project if approved after further environmental review. Although this announcement is not itself a leasing announcement, the Call Areas described herein, or portions thereof, may be available for future leasing. BOEM will use responses to this Call to gauge specific interest in acquiring commercial wind leases in some or all of the Call Areas, as required by 43 U.S.C. 1337(p)(3).

Parties wishing to submit a nomination in response to this Call should submit detailed and specific information in response to the requirements described in the section entitled, “Required Nomination Information.”

This announcement also requests comments and information from interested and affected parties about site conditions, resources, and multiple uses in close proximity to, or within, the Call Areas that would be relevant to BOEM's review of any nominations submitted and/or to BOEM's subsequent decision to offer all or part of the Call Areas for commercial wind leasing. The information that BOEM is requesting is described in the section of this Call entitled, “Requested Information from Interested or Affected Parties.”

This Call is published pursuant to subsection 8(p)(3) of the OCS Lands Act, 43 U.S.C. 1337(p)(3), which was added by section 388 of the Energy Policy Act of 2005 (EPAct), as well as the implementing regulations at 30 CFR part 585.

The Call Areas described in this notice are located on the OCS offshore North Carolina and are delineated as Wilmington-West, Wilmington-East and Kitty Hawk (formerly referred to as North Carolina Planning Areas 1, 2, and 5, respectively, during BOEM's North Carolina offshore wind planning efforts). The three Call Areas include 195 whole OCS blocks and 60 partial blocks in total and comprise approximately 1,441 square nautical miles (494,016 hectares). These Call Areas were established in consultation with the BOEM North Carolina Renewable Energy Intergovernmental Task Force (Task Force). A detailed description of the areas and how they were developed is described in the section of this Call entitled, “Description of the Area.”

DATES: BOEM must receive your nomination describing your interest in one or more, or any portion of the Call Areas, postmarked by January 28, 2013 for your nomination to be considered. BOEM requests comments or submissions of information to be postmarked or delivered by this same date. BOEM will consider only those nominations received that conform to this requirement.

Submission Procedures: If you are submitting a nomination for a lease in response to this Call, please submit your nomination to the following address: BOEM, Office of Renewable Energy Programs, 381 Elden Street, HM 1328, Herndon, Virginia 20170. In addition to a paper copy of the nomination, include an electronic copy of the nomination on a data storage device. BOEM will list the parties that submitted nominations and the location of the proposed lease areas (i.e., OCS blocks nominated) on the BOEM Web site after the 45-day comment period has closed.

Comments and other submissions of information may be submitted by either of the following two methods:

1. Federal eRulemaking Portal: http://www.regulations.gov. In the entry entitled “Enter Keyword or ID,” enter BOEM-2012-0088, and then click “search.” Follow the instructions to submit public comments and view supporting and related materials available for this notice.

2. U.S. Postal Service or other delivery service. Send your comments and information to the following address: Bureau of Ocean Energy Management, Office of Renewable Energy Programs, 381 Elden Street, HM 1328, Herndon, Virginia 20170.

All responses will be reported on http://www.regulations.gov.

If you wish to protect the confidentiality of your nominations or comments, clearly mark the relevant sections and request that BOEM treat them as confidential. Please label privileged or confidential information “Contains Confidential Information” and consider submitting such information as a separate attachment. Treatment of confidential information is addressed in the section of this Call entitled, “Protection of Privileged or Confidential Information.” Information that is not labeled as privileged or confidential will be regarded by BOEM as suitable for public release.

FOR FURTHER INFORMATION CONTACT: Will Waskes, Oceanographer, BOEM, Office of Renewable Energy Programs, 381 Elden Street, HM 1328, Herndon, Virginia 20170, (703) 787-1320 or Will.Waskes@boem.gov.

SUPPLEMENTARY INFORMATION:

Purpose of the Call for Information and Nominations

The OCS Lands Act requires BOEM to award leases competitively, unless BOEM makes a determination that there is no competitive interest (43 U.S.C. 1337(p)(3)). BOEM will make this determination after reviewing the nominations received in response to this Call.

This Call also requests information from interested and affected parties on issues relevant to BOEM's review of nominations for potential leases in the Call Areas. A lease, whether issued through a competitive or noncompetitive process, gives the lessee the exclusive right to subsequently seek BOEM approval for the development of the leasehold. The lease does not grant the lessee the right to construct any facilities; rather, the lease grants the lessee the right to use the leased area to develop its plans, which BOEM must approve before the lessee may proceed to the next stage of the process (30 CFR 585.600 and 585.601). The responses to this Call could lead to the initiation of a competitive leasing process in some parts of the Call Areas (i.e., where competition exists for certain tracts), and a noncompetitive process in other parts of the Call Areas (i.e., where no competitive interest exists for certain tracts). The leasing process is described more completely under the “Determination of Competitive Interest” and “Noncompetitive Leasing Process” sections of this Call. In any parts of the Call Areas where BOEM determines there is no competitive interest, BOEM may proceed with the noncompetitive lease process pursuant to 30 CFR 585.232. If BOEM determines that there is competitive interest in some or all of the Call Areas, then BOEM may proceed with Area Identification, as set forth in 30 CFR 585.211(b), and the competitive leasing process set forth under 30 CFR 585.211 through 585.225. Whether the leasing process is competitive or noncompetitive, it will include additional opportunities for the public to provide input, and any proposed actions will be reviewed thoroughly for potential environmental and multiple use impacts. The area(s) that may be finally offered for lease, if any, has/have not yet been determined, and may include less than the total areal extent of the Call Areas as identified in this Call.

Background

Energy Policy Act of 2005

The EPAct amended the OCS Lands Act by adding subsection 8(p)(1)(C), which authorizes the Secretary of the Interior to grant leases, easements, or rights-of-way (ROWs) on the OCS for activities that are not otherwise authorized by law and that produce or support production, transportation, or transmission of energy from sources other than oil or gas, including renewable energy sources. The EPAct also required the issuance of regulations to carry out the new authority pertaining to renewable energy on the OCS. The Secretary delegated this authority to issue leases, easements, and ROWs, and to promulgate regulations, to the Director of BOEM. On April 29, 2009, BOEM published the Renewable Energy and Alternate Uses (REAU) rule, at 30 CFR Part 585, which can be found at: http://www.boem.gov/uploadedFiles/30_CFR_585.pdf.

Executive Order 13547: Stewardship of the Ocean, Our Coasts, and the Great Lakes

On July 19, 2010, the President signed Executive Order 13547 (Order) establishing a national ocean policy and the National Ocean Council (75 FR 43023). The Order establishes a comprehensive, integrated national policy for the stewardship of the ocean, our coasts, and the Great Lakes. Where BOEM actions affect the ocean or coast, the Order requires BOEM to take such action as necessary to implement the policy, stewardship principles, and national priority objectives adopted by the Order, with guidance from the National Ocean Council.

BOEM appreciates the importance of coordinating its planning endeavors with other OCS users, regulators and relevant Federal Agencies (e.g., U.S. Fish and Wildlife Service, the National Park Service, and the National Oceanic and Atmospheric Administration) and intends to follow principles of coastal and marine spatial planning, and coordinate with the regional planning bodies as established by the National Ocean Council. BOEM anticipates that continued coordination with its Task Forces will help inform comprehensive coastal and marine spatial planning efforts.

BOEM North Carolina Intergovernmental Renewable Energy Task Force

BOEM formed the North Carolina Task Force in January 2011, to facilitate coordination among relevant Federal agencies and affected state, local, and tribal governments throughout the leasing process. The Task Force meeting materials are available on the BOEM Web site at: http://www.boem.gov/Renewable-Energy-Program/State-Activities/North-Carolina.aspx.

Environmental Review Process

BOEM intends to prepare an environmental assessment (EA), which will consider the environmental consequences associated with issuing commercial wind leases and approving site assessment activities on those leases within all or some of the Call Areas. BOEM is publishing, concurrently with this Call, a Notice of Intent (NOI) to prepare an EA, which seeks public input in identifying the environmental issues and alternatives to be considered in the EA.

The EA will consider the reasonably foreseeable environmental consequences associated with leasing and site characterization scenarios within the Call Areas (including geophysical, geotechnical, archaeological, and biological surveys), and site assessment scenarios (including the installation and operation of meteorological towers and buoys) on the potential leaseholds. The NOI solicits input on the environmental effects associated only with the activities described above. The environmental effects of the construction or operation of any wind energy facility would be considered under a separate, project-specific National Environmental Policy Act (NEPA) environmental review process.

Several consultations will be conducted concurrently with, and integrated into, the current NEPA process. These consultations include, but are not limited to, those required by the Coastal Zone Management Act (CZMA), the Endangered Species Act (ESA), the Magnuson-Stevens Fishery Conservation and Management Act, Section 106 of the National Historic Preservation Act (NHPA), and Executive Order 13175—“Consultation and Coordination with Tribal Governments.” The results of these consultations will assist BOEM in deciding whether and where leases may be issued.

Actions Taken by the State of North Carolina in Support of Offshore Renewable Energy Development

BOEM recognizes the importance of the steps that the State of North Carolina has taken to encourage environmentally sound offshore wind energy development. While a state may promote such development, BOEM has the exclusive authority to issue leases, easements, and ROWs on the OCS for renewable energy purposes.

The State of North Carolina has been engaged in a planning process to evaluate and identify areas of the OCS that may be suitable for offshore wind energy development. This process helped inform state recommendations to BOEM regarding potentially suitable areas for BOEM to consider when moving forward with its offshore wind energy leasing process.

In the summer of 2008, the North Carolina General Assembly requested that the University of North Carolina at Chapel Hill conduct a 9-month study to assess the feasibility of producing wind energy in the Pamlico and Albemarle Sounds (S.L. 2008-107). Subsequently, the scope of the study was expanded to include waters off the North Carolina coast. The request specified that the assessment include an analysis of the spatial distributions of available wind power, ecological risks and synergies, use conflicts affecting site selection, foundation systems and their compatibility with sound- and ocean-bottom geology and associated geologic dynamics, electric transmission infrastructure, statutory and regulatory barriers associated with utilities, the legal context, carbon reduction potential, and economics. The study, entitled, Coastal Wind, Energy for North Carolina's Future: A Study of the Feasibility of Wind Turbines in Pamlico and Albemarle Sounds and in Ocean Waters Off the North Carolina Coast (North Carolina Wind Study), was presented to the Task Force for consideration and can be found at: http://www.climate.unc.edu/coastal-wind/Coastal%20Wind%20Energy%20for%20NC2019s%20Future.pdf.

BOEM's Planning and Leasing Process

Determination of Competitive Interest

The first step in the leasing process is to determine whether or not there is any interest in acquiring a lease within the Call Areas. At the same time, BOEM can determine whether there is overlapping interest in any particular portion of the Call Areas that would result in the need for a competitive process. At the conclusion of the comment period for this Call, BOEM will review the nominations received, undertake a completeness review and a qualifications review, and determine whether competitive interest exists in any specific location within the Call Areas.

If two nominated areas of interest fully or partially overlap, BOEM may proceed with competitive leasing as described in the section of this Call entitled, “Competitive Leasing Process.” For areas where BOEM determines that there is no competitive interest, BOEM may proceed with noncompetitive leasing described in the section entitled, “Non-Competitive Leasing Process.” BOEM may consult with the Task Force throughout the leasing process.

Situations may arise in which several parties nominate areas that do not overlap. Under these circumstances, BOEM could choose to employ an allocation system of leases that involves the creation of competition across tracts. This system is referred to as intertract competition and would also be implemented under the competitive process outlined in the regulations. BOEM may consult with the Task Force in determining the need for, and/or use of, intertract competition.

Respondents to this Call and members of the public should be aware that no lease will be issued, either competitively or noncompetitively, until the necessary consultations and environmental analysis have been completed and the public has been given an opportunity to comment. As a result, it is possible that certain areas nominated may not be leased, or that the areas nominated may be modified from their original, proposed form before being offered for lease.

Competitive Leasing Process

If, after receiving responses to this Call, BOEM proceeds with the competitive leasing process for certain areas, it would follow the steps required by 30 CFR 585.211 through 585.225:

(1) Area Identification: Based on the information submitted in response to this Call and the NOI, BOEM would determine the level of interest and identify the area(s) that would be appropriate to move forward with in the planning and leasing process. The area(s) identified will constitute a Wind Energy Area (WEA) under the Secretary's “Smart from the Start” wind energy initiative and will be subject to environmental analysis, in consultation with appropriate Federal agencies, states, local governments, tribes and other interested parties.

(2) Proposed Sale Notice (PSN): If BOEM decides to proceed with lease issuance in the Call Areas, then BOEM would first complete the analyses necessary to inform the preparation of the PSN, including any final NEPA documentation, the Consistency Determination required by the CZMA and its implementing regulations, and various analyses of proposed lease sale economic terms and conditions. BOEM would then publish the PSN in the Federal Register with a comment period of 60 days and send the PSN to the Governor of any affected state, and the executive of any affected local government. BOEM will also share the PSN with the Task Force. The PSN would describe the area(s) to be offered for leasing, the proposed conditions of a lease sale, and the proposed auction format, lease document, and lease provisions/stipulations. Additionally, the PSN would describe the criteria and process for evaluating bids.

(3) Final Sale Notice (FSN): If BOEM decides to proceed with lease issuance after considering comments on the PSN, then it would publish the FSN in the Federal Register at least 30 days before the date of the lease sale.

(4) Bid Submission and Evaluation: Following publication of the FSN in the Federal Register, qualified bidders would be able to submit their bids to BOEM in accordance with procedures specified in the FSN. The bids, including any required deposits, would be reviewed for technical and legal adequacy. BOEM would evaluate the bids to determine if the bidder had complied with all applicable regulations. BOEM reserves the right to reject any or all bids and the right to withdraw an offer to lease an area, even after bids have been submitted.

(5) Issuance of a Lease: Following the selection of a winning bid(s) by BOEM, the bidder(s) would be notified of the decision and provided a set of official lease documents for execution. The successful bidder(s) would be required to execute the lease, pay the remainder of the bonus bid, if applicable, and file the required financial assurance within 10 days of receiving the lease documents. Upon receipt of the required payments, financial assurance, and properly executed lease forms, BOEM would issue a lease to the successful bidder(s).

Noncompetitive Leasing Process

If, after evaluating the responses to this Call, BOEM determines that there is no competitive interest in a proposed lease area, it may proceed with the noncompetitive lease issuance process pursuant to 30 CFR 585.232, as amended by the rulemaking which took effect on June 15, 2011, (76 FR 28178). Should BOEM decide to proceed with the noncompetitive leasing process, it would ask if the sole respondent who nominated a particular area wants to proceed with acquiring the lease, and if so, the respondent must submit an acquisition fee as specified by 30 CFR 585.502(a). After receiving the acquisition fee, BOEM would follow the process outlined in 30 CFR 585.231. Within 60 days of the date of that notice, the respondent would be required to submit a Site Assessment Plan (SAP), as described in 30 CFR 585.231(d)(2)(i). BOEM will comply with the requirements of NEPA, CZMA, ESA, NHPA, and other applicable Federal statutes before issuing a lease noncompetitively. BOEM would coordinate and consult, as appropriate, with relevant Federal agencies, affected tribes, and affected state and local governments prior to issuing a noncompetitive lease, and in formulating lease terms, conditions, and stipulations.

It is possible that responses to this Call may result in a determination that there is competitive interest in acquiring leases in some areas but not in others. BOEM will publicly announce its determinations before proceeding with any type of leasing process.

Description of the Area

The Call Areas offshore North Carolina are delineated as Wilmington-West, Wilmington-East and Kitty Hawk, formerly referred to as North Carolina Planning Areas 1, 2, and 5 respectively, during BOEM's North Carolina offshore wind planning efforts. The three Areas include 195 whole OCS blocks and 60 partial blocks in total and comprise approximately 1,441 square nautical miles (494,016 hectares).

Call Area Wilmington-West

The boundary of Call Area Wilmington-West begins 7 nautical miles (nmi) from the shore and extends roughly 11 nmi seaward. It extends from east to west approximately 15 nmi. The entire area is approximately 78 square nautical miles (26,784 hectares).

The following 6 full OCS blocks are included within Call Area Wilmington-West: Georgetown NI17-09 Blocks 6231, 6232, 6281, 6282, 6283, and 6332. In addition, parts of the following 9 OCS blocks are included within the area of interest: Georgetown NI17-09 Blocks 6230, 6233, 6234, 6235, 6284, 6285, 6333, 6334, and 6383 as described in the table below.

List of Partial OCS Blocks (Including Sub-Blocks) in Call Area Wilmington-West
Protraction name | Protraction No. | Block No. | Sub-block
Georgetown | NI17-09 | 6230 | C, D, F, G, H, I, J, K, L, M, N, O, P.
Georgetown | NI17-09 | 6233 | A, B, C, E, F, G, H, I, J, K, L, M, N, O, P.
Georgetown | NI17-09 | 6234 | E, F, G, H, I, J, K, L, M, N, O, P.
Georgetown | NI17-09 | 6235 | E, F, G, H, I, J, K, L, M, N, O.
Georgetown | NI17-09 | 6284 | A, B, C, D, E, F, G, H, I, J, K, L, M, N, O.
Georgetown | NI17-09 | 6285 | A, B, E.
Georgetown | NI17-09 | 6333 | A, B, C, D, E, F, G, H, I, J, K, L, M, N, O.
Georgetown | NI17-09 | 6334 | A, B, E.
Georgetown | NI17-09 | 6383 | A, B, E.

Call Area Wilmington-East

The boundary of Call Area Wilmington-East begins 13 nmi from the shore and extends roughly 28 nmi seaward. It extends from east to west approximately 21 nmi. The entire area is approximately 327 square nautical miles (111,984 hectares).

The following 51 full OCS blocks are included within the Call Area Wilmington-East: Georgetown NI17-09 Blocks 6438, 6389, 6439, 6488, 6489, 6538, 6539, 6587, 6588, 6589, 6638, 6639; Cape Fear NI18-07: Blocks 6351, 6401, 6402, 6403, 6451, 6452, 6453, 6454, 6501, 6502, 6503, 6504, 6505, 6551, 6552, 6553, 6554, 6555, 6556, 6601, 6602, 6603, 6604, 6605, 6606, 6652, 6653, 6654, 6655, 6656, 6657, 6703, 6704, 6705, 6706, 6754, 6755, 6804, 6854. In addition, parts of the following 15 OCS blocks are included within the area of interest Georgetown NI17-09: Blocks 6388, 6437, 6487, 6537; Cape Fear NI18-07: Blocks 6352, 6353, 6404, 6455, 6506, 6507, 6508, 6557, 6558, 6607, and 6855 as described in the table below.

List of Partial OCS Blocks (Including Sub-Blocks) in Call Area Wilmington-East
Protraction name | Protraction No. | Block No. | Sub-block
Georgetown | NI17-09 | 6388 | B, F, G, H, J, K, L, M, N, O, P.
Georgetown | NI17-09 | 6437 | K, L, O, P.
Georgetown | NI17-09 | 6487 | C, D, G, H, K, L, O, P.
Georgetown | NI17-09 | 6537 | B, C, E, F, G, H, J, K, L, N, O, P.
Cape Fear | NI18-07 | 6352 | E, F, G, H, I, J, K, L, M, N, O, P.
Cape Fear | NI18-07 | 6353 | E, F, I, J, K, M, N, O, P.
Cape Fear | NI18-07 | 6404 | A, E, F, I, J, K, M, N, O, P.
Cape Fear | NI18-07 | 6455 | A, E, F, G, I, J, K, L, M, N, O, P.
Cape Fear | NI18-07 | 6506 | A, B, E, F, G, H, J, K, L, M, N, O, P.
Cape Fear | NI18-07 | 6507 | L, M, N, O, P.
Cape Fear | NI18-07 | 6508 | I, M.
Cape Fear | NI18-07 | 6557 | A, B, C, D, E, F, G, H, I, J, K, M, N, O.
Cape Fear | NI18-07 | 6558 | A.
Cape Fear | NI18-07 | 6607 | A, B, C, E, F, G, H, J, K, M, N, O, P.
Cape Fear | NI18-07 | 6855 | A, B, C, D, E, F, G, H, I, J, K, L, M, N, O.

Respondents should be aware that Georgetown NI17-09 Blocks 6439, 6489, 6539, 6589, 6639; Cape Fear NI18-07 Blocks 6351, 6401, 6451, 6501, 6551, and 6601 border the edge of Universe Transverse Mercator (UTM) Zones 17 and 18. As a result, while these blocks are considered full OCS lease blocks, they vary in area and are smaller than standard OCS blocks. Official acreages for the blocks located within OPD NI18-07 can be found at: http://www.boem.gov/Oil-and-Gas-Energy-Program/Mapping-and-Data/NI18-07-01-APR-2008-pdf.aspx . Official acreages for the blocks located within OPD NI17-09 can be found at: http://www.boem.gov/Oil-and-Gas-Energy-Program/Mapping-and-Data/NI17-09-01-APR-2008.aspx.

Kitty Hawk

The boundary of Call Area Kitty Hawk begins 6 nmi from the shore and extends roughly 34 nmi seaward. It extends from north to south approximately 45 nmi. The entire area is approximately 1,036 square nautical miles (355,248 hectares).

The following 138 full OCS blocks are included within the Call Area Kitty Hawk: Currituck NJ18-1 Blocks 6608, 6609, 6610, 6611, 6612, 6613, 6614, 6615, 6658, 6659, 6660, 6661, 6662, 6663, 6664, 6665, 6666, 6667, 6668, 6669, 6708, 6709, 6710, 6711, 6712, 6713, 6714, 6715, 6716, 6717, 6718, 6719, 6720, 6759, 6760, 6761, 6762, 6763, 6764, 6765, 6766, 6767, 6768, 6769, 6770, 6809, 6810, 6811, 6812, 6813 6714, 6815, 6816, 6817, 6818, 6819, 6820, 6859, 6860, 6861, 6862, 6863, 6864, 6865, 6866, 6867 6868, 6869, 6870, 6909, 6910, 6911, 6912, 6913, 6914, 6915, 6916, 6917, 6918, 6919, 6920, 6960, 6961, 6962, 6963, 6964, 6965, 6966, 6967, 6968, 6969, 6970, 7010, 7011, 7012, 7013, 7014, 7015, 7016, 7017, 7018, 7019, 7020, 7061, 7062, 7063, 7066, 7067, 7068, 7069, 7070, 7112, 7116, 7117, 7118, 7119, 7166, 7167, 7168, 6769; NI18-02 Blocks 6017, 6018, 6019, 6067, 6068, 6069, 6117, 6618, 6119, 6165, 6166, 6167, 6168, 6169, 6216, 6217, 6218, and 6219. In addition, parts of the following 36 OCS blocks are included within the area of interest: Currituck NJ18-11: Blocks 6607, 6657, 6758, 6808, 6858, 6909, 6959, 7010, 7060, 7064, 7065, 7111, 7113, 7114, 7115, 7120, 7161 7162, 7163, 7170; Manteo NI18-02: Blocks 6012, 6016, 6020, 6066, 6070, 6114, 6115, 6116, 6120, 6164, 6215, 6265, 6266, 6267, 6268, and 6269 as described in the table below.

List of Partial OCS Blocks (Including Sub-Blocks) in Call Area Kitty Hawk
Protraction name | Protraction No. | Block No. | Sub-block
Currituck | NJ18-11 | 6607 | C, D, G, H, K, L, O, P.
Currituck | NJ18-11 | 6657 | D, H, L, P.
Currituck | NJ18-11 | 6758 | B, C, D, F, G, H, J, K, L, N, O, P.
Currituck | NJ18-11 | 6808 | C, D, G, H, K, L, P.
Currituck | NJ18-11 | 6858 | D, H.
Currituck | NJ18-11 | 6909 | A, B, C, D, F, G, H, J, K, L, O, P.
Currituck | NJ18-11 | 6959 | C, D, G, H, L, P.
Currituck | NJ18-11 | 7010 | A, B, C, D, E, F, G, H, J, K, L, N, O, P.
Currituck | NJ18-11 | 7060 | C, D, G, H, L.
Currituck | NJ18-11 | 7064 | A, B, C, D, E, F, G, H, I, J, K, M, N.
Currituck | NJ18-11 | 7065 | A, B, C, D, E, F, G, H, I, J, K, L, N, O, P.
Currituck | NJ18-11 | 7111 | A, B, C, D, E, F, G, H, J, K, L, N, O, P.
Currituck | NJ18-11 | 7113 | A, B, C, D, E, F, G, H, I, J, K, M, N.
Currituck | NJ18-11 | 7114 | A.
Currituck | NJ18-11 | 7115 | B, C, D, G, H, L, P.
Currituck | NJ18-11 | 7120 | A, B, C, E, F, G, I, J, K, M, N, O.
Currituck | NJ18-11 | 7161 | C, D, G, H, L, P.
Currituck | NJ18-11 | 7162 | A, B, C, D, E, F, H, I, J, K, M, N.
Currituck | NJ18-11 | 7163 | A.
Currituck | NJ18-11 | 7170 | A, B, C, E, F, G, I, J, K, M, N, O.
Manteo | NI18-02 | 6012 | A.
Manteo | NI18-02 | 6016 | A, B, C, D, E, F, G, H, J, K, L, O, P.
Manteo | NI18-02 | 6020 | A, B, C, E, F, I, J, M, N.
Manteo | NI18-02 | 6066 | C, D, H, L, P.
Manteo | NI18-02 | 6070 | A, B, E, F, I, J, M, N.
Manteo | NI18-02 | 6114 | H, J, K, L, N, O, P.
Manteo | NI18-02 | 6115 | E, I, J, M, N, O, P.
Manteo | NI18-02 | 6116 | C, D, F, G, H, I, J, K, L, M, N, O, P.
Manteo | NI18-02 | 6120 | A, B, E, F, I, J, M, N.
Manteo | NI18-02 | 6164 | B, C, D, H, L.
Manteo | NI18-02 | 6215 | A, B, C, D, E, F, G, H, I, J, K, L, N, O, P.
Manteo | NI18-02 | 6265 | B, C, D, E, F, G, H, J, K.
Manteo | NI18-02 | 6266 | A, B, C, D, E, F.
Manteo | NI18-02 | 6267 | A.
Manteo | NI18-02 | 6268 | D.
Manteo | NI18-02 | 6269 | A, B, C, D, G, H.

OCS Blocks (Including Sub-Blocks) In the Call Areas Potentially Subject to Limitations

Navigational Safety

The U.S. Coast Guard (USCG) advises that most of the blocks included in the Call Areas would require further study to determine risks to navigational safety (see the following “Navigational Issues” section) if they were selected for leasing and development. BOEM may decide that certain OCS blocks included in the Call Areas will not be made available for leasing and/or development for navigational safety reasons, or stipulations may be developed to mitigate navigational concerns.

If all of the blocks included in Call Areas Wilmington-West and Wilmington-East were to be made available for leasing and development, portions of a number of sub-blocks may not be available for surface occupancy, (i.e. the placement of wind facilities), because of proximity to the Traffic Separation Scheme (TSS) in the approaches to the Cape Fear River. These sub-blocks are listed in the table below.

Call area | Protraction name | Protraction No. | Block No. | Sub-block
Wilmington-West | Georgetown | NI1709 | 6235 | H, K, L, N, O.
Wilmington-West | Georgetown | NI1709 | 6285 | A, B, E.
Wilmington-West | Georgetown | NI1709 | 6284 | H, K, L, N, O.
Wilmington-West | Georgetown | NI1709 | 6334 | B, E.
Wilmington-West | Georgetown | NI1709 | 6333 | L, O.
Wilmington-East | Georgetown | NI1709 | 6437 | K, O.
Wilmington-West | Georgetown | NI1709 | 6383 | B, E.

Department of Defense Activities

The Department of Defense (DOD) conducts offshore testing, training, and operations in the Call Areas. To avoid or minimize potential conflicts with existing DOD activities, site-specific stipulations may be necessary for all OCS blocks within the Call Areas.

Such stipulations may include, but are not limited to, a hold-and-save-harmless agreement where the lessee assumes all risks of damage or injury to persons or property if such injury or damage to such person or property occurs by reason of the activities of the U.S. Government, and/or a requirement that at times requested by the DOD, the lessee controls its own electromagnetic emissions and those of its agents, employees, invitees, independent contractors, or subcontractors when operating in specified DOD Operating Areas (OPAREAs) or warning areas. Other examples of stipulations that may be required include a stipulation that the lessee enter into an agreement with the appropriate DOD commander when operating vessels or aircraft in a designated OPAREA or warning area, requiring that these vessel and aircraft movements be coordinated with the appropriate DOD commander, and/or a stipulation that DOD can request temporary suspension of operations and/or require evacuation on the lease in the interest of safety and/or national security.

Map of the Call Areas

A map of the Call Areas and a table of the boundary coordinates in X, Y (eastings, northings) UTM Zone 17 or UTM Zone 18 (based on the Call Area geographic location), NAD83 Datum and geographic X, Y (longitude, latitude), NAD83 Datum can be found at the following URL: http://www.BOEM.gov/offshore/RenewableEnergy/StateActivities-North Carolina.htm.

A large scale map of the Call Areas showing their boundaries with numbered blocks is available from BOEM at the following address: Bureau of Ocean Energy Management, Office of Renewable Energy Programs, 381 Elden Street, HM 1328, Herndon, Virginia 20170. Phone: (703) 787-1320, Fax: (703) 787-1708.

Development of the Call Areas

The Call Areas were delineated by BOEM in consultation with the Task Force, and are intended to minimize user conflicts while making appropriate areas available for potential commercial offshore wind energy leasing and development. The USCG advises that navigational conflicts may exist as described in the section entitled, “Navigational Issues.” Specific mitigation, stipulations, or exclusion areas may be developed and applied at the leasing, site assessment, and/or the construction and operations stages as a result of environmental reviews and associated consultations, and by using information gathered through continued coordination with the Task Force. The following information and issues were discussed during consultation with the Task Force.

Results of North Carolina's Coastal Wind Study

The Call Areas were developed with consideration of the boundaries recommended by the North Carolina Wind Study. The results of the study helped to identify areas that may not be suitable for wind development, based on features ranging from ocean-bottom geological and associated geological dynamics, electric transmission infrastructure, ocean usages and the presence and density of biological resources including avian populations and aquatic habitat. Of additional concern, as indicated by the North Carolina Study, is the alteration of viewscapes from the Cape Hatteras and Cape Lookout National Seashores.

Areas Removed From Further Leasing Consideration

BOEM considered the findings of the North Carolina Study, Task Force input, and other relevant studies and removed the following areas from further leasing consideration:

1. No Build Areas (e.g., TSSs, marine sanctuaries, shipwreck clusters, explosive zones, areas in close proximity to anchorage areas, etc.): Leasing and potential development has been removed from consideration in blocks containing some of these features (e.g., TSSs) since it would likely directly and adversely affect shipping or be impractical to conduct ocean-bottom penetrating activities. BOEM may later require set-backs from these or other features.

2. Areas of High Avian Densities: Areas with high avian densities are mostly concentrated along inlet areas (to a distance of 5 miles in all directions from the center of the inlet), in large zones off each of the three major Capes (Hatteras, Lookout, and Fear), and in areas swept by the Gulf Stream. Adverse effects may occur because of the greater potential for in-flight mortality from collisions with wind turbines, avoidance behaviors caused by the disturbance/presence of turbines and/or disturbance of ocean-bottom features.

3. Areas with Unique Geological Conditions:

a. The shoreline seaward to the 15-meter depth contour, including a four-mile zone around the inlet/outlet systems. This area is the active part of the barrier island system associated with sediment transport, inlet dynamics, and storm processes.

b. Highly dissected outcrops of Oligocene Limestone, Miocene Pungo River Formation, and thin Quaternary carbonate cap rocks. These extensive hard-bottoms and firm-bottoms contain tremendous relief, biodiversity, and bio-productivity.

c. Algal reef which occurs at the shelf edge and above the steep drop-off of the continental slope that is dominated by steep clinoform sediment deposits, slump blocks, and flow structures.

d. East of Diamond Shoals where the shelf edge is characterized by an extremely steep erosional scarp with a downstream sediment scour and a deposition zone that sweeps off to the northeast. These features are probably the direct result of erosion and deposition by the Gulf Stream as it is deflected off the North Carolina continental margin at Cape Hatteras.

e. Shallow and Active Sand Bodies of the cross-shelf and the cape shoal structures (Frying Pan Shoals, Diamond Shoals and Cape Lookout Shoals) are critical components of the large-scale and long-term sediment dynamics of the barrier island system and are characterized by active bedforms and scour.

4. Areas within 6 miles from shore: The results of the numerous studies along the Mid-Atlantic and North-Atlantic found that birds, certain marine mammals and other resources occur in higher densities closer to shore. In addition, numerous shipwrecks, reefs, and shoals tend to occur in this zone, typically from the shoreline to 6 miles offshore. Therefore, some environmental impacts could be reduced with increasing distance from the shoreline.

5. Fish, Fisheries and Marine Habitats: The three main Capes in North Carolina are regions of high biological productivity and high levels of fishing activity. Live bottom habitat becomes increasingly common on the North Carolina OCS from north to south. A zone south of Cape Fear and located in a band that ranges from about 8 to 20 miles wide is thought to be such a concentration and has been removed from consideration.

6. Military Areas: DOD conducts operations readiness activities for both hardware and personnel on the OCS. The Call Areas were refined based on DOD assessments of compatibility between potential commercial offshore wind development and DOD testing, training and operational activities. Although OCS blocks determined to be incompatible with these activities were removed from consideration, site specific stipulations may be necessary for remaining lease blocks in the Call Areas to avoid conflicts with DOD activities. BOEM will consult with the DOD regarding potential issues concerning offshore testing, training and operational activities, and will use best management practices to develop appropriate stipulations to avoid conflicts with DOD in the Call Areas.

Areas Under National Park Service (NPS) Jurisdiction

The mission of the NPS, as set forth under the NPS Organic Act, is to protect the natural and cultural resources, including the scenery, in units of the National Park System, and to provide for their enjoyment in a manner that will leave them unimpaired for future generations (http://www.nps.gov/aboutus/mission.htm; also see 16 U.S.C. 1). The NPS has advised BOEM that Congress established the Cape Hatteras National Seashore, in part, to conserve the scenic values and natural and cultural resources of the dynamic barrier islands in the area. Cape Hatteras National Seashore is home to the National Historic Landmark Cape Hatteras Light Station and other historic properties.

The NPS has informed BOEM that the Cape Hatteras National Seashore is important to the local economy and that in 2010, the NPS recorded more than 2.1 million recreational visits to Cape Hatteras National Seashore and a contribution of $115 million and approximately 1,800 jobs to the local economy. The NPS shared with BOEM a 2002 Outer Banks Group Parks Visitor Study conducted by the University of Idaho. In this study, visitors were asked to rate the importance of selected attributes in planning for the preservation of Cape Hatteras National Seashore for future generations. According to the study, 84 percent of the respondents identified scenic views as extremely or very important. The NPS believes these economic and recreational values are directly dependent on the quality of park resources and the visitor experience at this popular seashore.

Units of the National Park System and other marine protected areas are identified as “Areas of Special Concern” in Section 5.2.15 of the October 2007 Outer Continental Shelf (OCS) Alternative Energy Programmatic Environmental Impact Statement (PEIS). Call Area Kitty Hawk is located offshore of properties managed by the NPS.

The NPS has raised concerns over the potential impact that wind energy development off the coast of North Carolina could have on scenic ocean views and night skies of the Cape Hatteras National Seashore. At this time, BOEM has not modified the Call Area Kitty Hawk, portions of which are off the coast of the Cape Hatteras National Seashore, to address these concerns.

To help BOEM and NPS better evaluate the potential visual impacts of commercial wind energy development on visitors to the Cape Hatteras and Cape Lookout National Seashores, the two agencies undertook a visual simulation study in the interest of providing accurate representations of offshore wind facilities at various distances (i.e., 10, 15 and 20 nmi) from shore and under a variety of conditions (e.g., daytime and nighttime views, multiple array configurations, various lighting conditions, etc.). The study was completed in August 2012. Based on the study results and the dimension of the turbines analyzed, from certain locations and under certain conditions, turbines could be visible during the day and at night at 20 nmi (the outer limit of the visual simulations configurations). Results of the visualization study can be found at: http://www.boem.gov/Renewable-Energy-Program/State-Activities/North-Carolina.aspx.

The NPS is concerned about the potential impact to the scenic experience of visitors to the Cape Hatteras National Seashore. Although BOEM is not modifying the Call Area Kitty Hawk at this time, BOEM may in the future determine that portions of the Call Area Kitty Hawk may not be appropriate for commercial wind development.

Navigational Issues

The USCG used a color-coding system to designate portions of the three Call areas as green, yellow, and red. A designation of green indicates that the USCG believes that an area, if developed, would pose minimal to no detrimental impact on navigational safety, but that the area should still be subject to further study. A designation of yellow indicates that the USCG believes that development of the area could have unacceptable effects on navigational safety and that further study is required to determine the potential effect that development of the area would have on navigational safety. A designation of red indicates that the USCG believes that development of that area would have an unacceptable effect on navigational safety based on existing navigational routes. A map showing the OCS blocks (including sub-blocks) and their corresponding color coding can be found at: http://boem.gov/Renewable-Energy-Program/State-Activities/North-Carolina.aspx.

BOEM has analyzed USCG 2009 and 2010 Automatic Identification System (AIS) data, including density plots (by 1/16th of an OCS Block) for all vessel types and various individual vessel types (e.g. tankers, cargo vessels, tugs, etc.) for the OCS offshore North Carolina. Maps of Call Areas Wilmington-West, Wilmington-East and Kitty Hawk overlaid on these AIS analyses can be found at: http://boem.gov/Renewable-Energy-Program/State-Activities/North-Carolina.aspx.

The 2009 and 2010 AIS data used to conduct this analysis, in addition to other AIS tools, can be downloaded at: http://www.marinecadastre.gov/AIS/default.aspx.

BOEM encourages respondents and interested parties to incorporate this information into their decision-making and comments and when nominating areas.

In general, placement of obstacles in previously open seas may have an impact on maritime traffic. The AIS data show that portions of the Call Areas are trafficked by multiple types of vessels traveling along the Atlantic Coast and entering and leaving ports located in New York, New Jersey, Pennsylvania, Delaware, Maryland, Virginia, and North Carolina and South Carolina. These vessels include commercial, military, and commercial fishing vessels. The transit patterns of these vessels are influenced by the unique coastal geology and oceanographic conditions off North Carolina's coast. BOEM will consider potential impacts to existing users when conducting reviews of any Construction and Operations Plans (COP) submitted subsequent to a leasing process and may require that lessees mitigate these impacts. Potential respondents to the Call should recognize that the impacts on existing users must be evaluated before a project can be approved. The USCG has generated AIS data plots and information for the Call Areas that are available on the USCG Atlantic Coast Port Access Route study Web site at: www.uscg.mil/lantarea/acpars and will provide raw data for analysis upon request. Potential respondents should recognize that portions of the Call Areas may not be offered for leasing and development by BOEM because of existing vessel traffic.

The USCG has a responsibility to ensure the safety of navigation under the Ports and Waterways Safety Act (PWSA) (33 U.S.C. 1221). The PWSA requires the USCG to provide safe access routes for the movement of vessel traffic proceeding to or from ports or places subject to the jurisdiction of the United States. The USCG does so by designating necessary fairways and TSSs for vessels operating in the territorial sea of the United States and in high sea approaches, outside the territorial sea. The USCG may also determine that establishment of other ships' routing measures would enhance navigational safety, and it works with its Federal interagency and International Maritime Organization partners to establish these voluntary measures as necessary.

The potential for navigational safety risk posed by building structures in proximity to shipping routes is affected by numerous factors including, but not limited to: Vessel size, vessel type, density of traffic, prevailing weather and hydrographic conditions, ocean and wind driven currents, cumulative impact of multiple obstructions (for example, wind assessment or development facilities), existence of multiple shipping routes (for example, crossing or meeting situations), radar/automatic radar plotting aid (ARPA) interference, and the existence of mitigating factors such as navigational aids, vessel traffic services, or pilotage. Currently, there is no standard recommended separation distance between offshore renewable energy facilities and shipping routes. The USCG has reviewed guidance published by other countries, such as the United Kingdom's Maritime Guidance Note MGN-371, and consulted with its own waterways subject matter experts. Currently, the USCG considers that the placement of offshore wind assessment and generation facilities in any area less than 1 nmi from traditional shipping routes poses a high risk to navigational safety and therefore does not recommend placement of offshore renewable energy facilities in such areas. The USCG considers placement of such wind facilities in areas greater than 5 nmi from existing shipping routes to pose minimal risk to navigational safety. Areas considered for placement of wind facilities between 1 nmi and 5 nmi would require additional USCG analysis to determine if mitigation factors could be applied to bring navigational safety risk within USCG acceptable levels.

Respondents to this Call should note that impacts to radar and ARPA may still occur outside of 1 nmi and will have to be evaluated along with other potential impacts. The above are only planning guidelines and may be changed based on the completion of the Atlantic Coast Port Access Route Study (ACPARS), which is described herein. In addition, these guidelines may be further modified upon completion of a Navigational Safety Risk Assessment (NSRA) that is required before BOEM approves construction of any offshore renewable energy facilities. The USCG is conducting an ACPARS to determine how best to route traffic on the Atlantic coast. See 76 FR 27288 (May 11, 2011). This study will better inform the USCG about the navigational safety risks associated with construction of offshore renewable energy facilities. The data gathered during this ACPARS may result in the establishment of new vessel routing measures, modification of existing routing measures, or removal of some existing routing measures off the Atlantic Coast from Maine to Florida.

As a parallel effort that is shorter in duration, BOEM is working to establish a Maritime Working Group (MWG) to facilitate consideration of vessel traffic and safety concerns when making decisions regarding the further delineation of North Carolina Call Areas for potential leasing and development offshore North Carolina. BOEM hopes to address these concerns through the analysis of vessel movement data, such as AIS information, and the integration of maritime stakeholder input. The MWG would comprise maritime stakeholders that use the waters offshore North Carolina, regulate their use, or have a unique geographic expertise of vessel traffic patterns in the area. Ideally, this effort would distinguish traditional shipping routes, delineate appropriate shipping corridor widths and buffers, and recommend potential modifications to established routing measures and new routing measures that could be incorporated into the USCG ACPARS and assist BOEM in decision-making.

Transmission Issues

As indicated in Section 5.2.15.3 of the OCS Alternative Energy Programmatic Environmental Impact Statement (PEIS) at: http://www.boem.gov/Renewable-Energy-Program/Regulatory-Information/Index.aspx#Programmatic_Environmental_Impact_Statement_(PEIS), transmission facilities would not be located on NPS properties.

Required Nomination Information

If you intend to submit a nomination for a commercial wind energy lease in the areas identified in this notice, you must provide the following information:

(1) The BOEM Protraction name, number, and specific whole or partial OCS blocks within the Call Area(s) that are of interest for commercial wind leasing, including any required buffer area. This information should be submitted as a spatial file compatible with ArcGIS 10.0 in a geographic coordinate system (NAD 83) in addition to your hard copy submittal. If your proposed lease area(s) includes one or more partial blocks, please describe those partial blocks in terms of a sixteenth (i.e. sub-block) of an OCS block. BOEM will not consider any areas outside of the Call Areas in this process;

(2) A description of your objectives and the facilities that you would use to achieve those objectives;

(3) A preliminary schedule of proposed activities, including those leading to commercial operations;

(4) Available and pertinent data and information concerning renewable energy resources and environmental conditions in the area(s) that you wish to lease, including energy and resource data and information used to evaluate the Call Areas. Where applicable, spatial information should be submitted in a format compatible with ArcGIS 10.0 in a geographic coordinate system (NAD 83);

(5) Documentation demonstrating that you are legally qualified to hold a lease, as set forth in 30 CFR 585.106 and 107. Examples of the documentation appropriate for demonstrating your legal qualifications and related guidance can be found in Chapter 2 and Appendix B of the BOEM Renewable Energy Framework Guide Book available at: http://www.BOEM.gov/offshore/RenewableEnergy/PDFs/REnGuidebook_03August2009_3_.pdf. Legal qualification documents will be placed in an official file that may be made available for public review. If you wish that any part of your legal qualification documentation be kept confidential, clearly identify what should be kept confidential, and submit it under separate cover (see “Protection of Privileged or Confidential Information Section”, below); and

(6) Documentation demonstrating that you are technically and financially capable of constructing, operating, maintaining and decommissioning the facilities described in (2) above. Guidance regarding the required documentation to demonstrate your technical and financial qualifications can be found at: http://www.BOEM.gov/offshore/RenewableEnergy/PDFs/QualificationGuidelines.pdf. Documentation you submit to demonstrate your legal, technical, and financial qualifications must be provided to BOEM in both paper and electronic formats. BOEM considers an Adobe PDF file stored on a storage media device to be an acceptable format for submitting an electronic copy.

It is critical that you submit a complete nomination so that BOEM may evaluate your submission in a timely manner. If BOEM reviews your nomination and determines that it is incomplete, BOEM will inform you of this determination in writing. This letter will describe the information that BOEM determined to be missing from your nomination, and which you must submit in order for BOEM to deem your submission complete. You will be given 15 business days from the date of that letter to submit the information that BOEM found to be missing from your original submission. If you do not meet this deadline, or if BOEM determines this second submission is insufficient and has failed to complete your nomination, then BOEM retains the right to deem your nomination invalid. In such a case, BOEM will not process your nomination.

It is not required that you submit a nomination in response to this Call in order to submit a bid in a potential lease sale offshore North Carolina, should BOEM determine that competitive interest exists in one or more portions of the Call Areas after the close of the Call comment period. However, you would not be able to participate in such a lease sale unless, prior to the sale, you had demonstrated that you are legally qualified to hold a BOEM renewable energy lease, and you had demonstrated that you are technically and financially capable of constructing, operating, maintaining, and decommissioning the facilities you would propose to install on your lease. To ensure that BOEM has sufficient time to process your qualifications package, you should submit this package during the PSN 60-day public comment period. More information can be found at: http://www.BOEM.gov/offshore/RenewableEnergy/PDFs/QualificationGuidelines.pdf.

Requested Information From Interested or Affected Parties

BOEM is requesting from the public and other interested or affected parties specific and detailed comments regarding the following:

1. Geological, geophysical, and biological conditions (including bottom and shallow hazards and live bottom) in the area described in this notice;

2. Known archaeological and/or cultural resource sites on the seabed in the areas described in this notice;

3. Historic properties potentially affected by the construction of meteorological towers, the installation of meteorological buoys, or commercial wind development in the areas identified in this Call;

4. Multiple uses of the areas, including navigation (commercial and recreational vessel use), fishing hotspots, and commercial fishing areas;

5. Information relating to whether or not offshore wind turbines located in the areas identified in this notice would adversely affect the North Carolina seascape, and ideas or strategies that could be used to help mitigate or minimize any adverse visual effects, such as: how far offshore turbines should be placed to minimize the visual impact from the coastline, specific locations or areas to avoid development altogether, or any other strategies to help reduce the visual footprint (for example, the color of the turbines [towers, nacelle, blades], the arrangement or pattern of the turbine array, the dimension of the turbines (e.g., height and blade span), visual navigational lighting requirements, the maximum number of turbines that should be allowed in a specific area, etc.);

6. The type of transmission system (e.g., AC, HVDC, etc.) a prospective developer would likely utilize for a wind facility offshore North Carolina. If AC, please state and explain the maximum distance you would be willing to run an AC transmission system to deliver power from an offshore wind facility to an onshore substation;

7. General interest by a developer(s) in constructing a backbone transmission system that would transport electricity generated by wind projects located offshore North Carolina, including a general description of the transmission's proposed path and potential interconnection points;

8. Available and pertinent data and information concerning renewable energy resources and environmental conditions in the area identified in this notice. Where applicable, spatial information should be submitted in a format compatible with ArcGIS 10.0 in a geographic coordinate system (NAD 83);

9. Habitats that may require special attention during siting and construction; and

10. Other relevant socioeconomic, biological, and environmental information.

Protection of Privileged or Confidential Information

Freedom of Information Act

BOEM will protect privileged or confidential information that you submit, as required by the Freedom of Information Act (FOIA). Exemption 4 of FOIA applies to trade secrets and commercial or financial information that you submit that is privileged or confidential. If you wish to protect the confidentiality of such information, clearly mark it and request that BOEM treat it as confidential. BOEM will not disclose such information, subject to the requirements of FOIA. Please label privileged or confidential information “Contains Confidential Information” and consider submitting such information as a separate attachment.

However, BOEM will not treat as confidential any aggregate summaries of such information or comments not containing such information. Additionally, BOEM will not treat as confidential (1) the legal title of the nominating entity (for example, the name of your company), or (2) the list of whole or partial blocks that you are nominating. Information that is not labeled as privileged or confidential will be regarded by BOEM as suitable for public release.

Section 304 of the National Historic Preservation Act (16 U.S.C. 470w-3(a))

BOEM is required, after consultation with the Secretary, to withhold the location, character, or ownership of historic resources if it determines that disclosure may, among other things, risk harm to the historic resources or impede the use of a traditional religious site by practitioners. Tribal entities should designate information that falls under Section 304 of NHPA as confidential.

Dated: December 10, 2012.
Tommy P. Beaudreau,
Director, Bureau of Ocean Energy Management.

[FR Doc. 2012-30093 Filed 12-12-12; 8:45 am]

BILLING CODE 4310-MR-P